DEPARTMENT OF COMMERCE

National Oceanic and Atmospheric Administration

RIN 0648-XZ86

Marine Mammals; File No. 14525

AGENCY: National Marine Fisheries Service (NMFS), National Oceanic and Atmospheric Administration (NOAA), Commerce.

ACTION: Notice; receipt of application.

SUMMARY: Notice is hereby given that Oleg Lyamin, Ph.D., Dept. of Psychiatry, School of Medicine, University of California at Los Angeles (UCLA), 16111 Plummer St., North Hills, CA 91343, has applied in due form for a permit to import specimens of northern fur seals (Callorhinus ursinus) for scientific research.

DATES: Written, telefaxed, or e-mail comments must be received on or before November 22, 2010.

ADDRESSES: The application and related documents are available for review by selecting “Records Open for Public Comment” from the Features box on the Applications and Permits for Protected Species (APPS) home page, https://apps.nmfs.noaa.gov, and then selecting File No. 14525 from the list of available applications.

These documents are also available upon written request or by appointment in the following office(s):

Permits, Conservation and Education Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018.

Written comments on this application should be submitted to the Chief, Permits, Conservation and Education Division, at the address listed above. Comments may also be submitted by facsimile to (301) 713-0376, or by e-mail to NMFS.Pr1Comments@noaa.gov. Please include File No. 14525 in the subject line of the e-mail comment.

Those individuals requesting a public hearing should submit a written request to the Chief, Permits, Conservation and Education Division at the address listed above. The request should set forth the specific reasons why a hearing on this application would be appropriate.

FOR FURTHER INFORMATION CONTACT: Amy Sloan or Jennifer Skidmore, (301) 713-2289.

SUPPLEMENTARY INFORMATION: The subject permit is requested under the authority of the Marine Mammal Protection Act of 1972, as amended (MMPA; 16 U.S.C. 1361 et seq.), and the regulations governing the taking and importing of marine mammals (50 CFR part 216).

The applicant proposes to import biological samples from 10 subadult male fur seals over a five-year period for studies on mechanisms of sleep in fur seals. Fur seals will be captured in Russia, held in captivity, sampled while in captivity, and euthanized at the termination of study to obtain their brains. Whole brains and brain tissues will be imported to the U.S. for anatomical and immunohistochemical studies. The first aim of the project is to correlate the release of major neurotransmitters in the brain of the fur seal during sleep and waking using microdialysis, high-performance liquid chromatography and radioimmunoassay analysis. The second aim of the study is to localize the distribution of the above mentioned cell groups in the fur seal brain as well as to localize the positions of the sites where the microdialysis samples were collected. Samples would be imported from Russia to UCLA for analysis and samples would be exported from the U.S. to South Africa for additional analysis.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: October 15, 2010.
P. Michael Payne,
Chief, Permits, Conservation and Education Division, Office of Protected Resources, National Marine Fisheries Service.

[FR Doc. 2010-26648 Filed 10-20-10; 8:45 am]

BILLING CODE 3510-22-P